DEPARTMENT OF COMMERCE

Foreign-Trade Zones Board

[S-88-2017]

Approval of Subzone Status; BGM America, Inc. Marion, South Carolina

On June 13, 2017, the Executive Secretary of the Foreign-Trade Zones (FTZ) Board docketed an application submitted by the Richland-Lexington Airport District, grantee of FTZ 127, requesting subzone status subject to the existing activation limit of FTZ 127, on behalf of BGM America, Inc., in Marion, South Carolina.

The application was processed in accordance with the FTZ Act and Regulations, including notice in the Federal Register inviting public comment (82 FR 30821, July 3, 2017). The FTZ staff examiner reviewed the application and determined that it meets the criteria for approval. Pursuant to the authority delegated to the FTZ Board Executive Secretary (15 CFR 400.36(f)), the application to establish Subzone 127C was approved on September 8, 2017, subject to the FTZ Act and the Board's regulations, including Section 400.13, and further subject to FTZ 127's 2,000-acre activation limit.

Dated: September 22, 2017.
Andrew McGilvray,
Executive Secretary.

[FR Doc. 2017-20806 Filed 9-27-17; 8:45 am]

BILLING CODE 3510-DS-P